DEPARTMENT OF AGRICULTURE

Submission for OMB Review; Comment Request

September 20, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Highly Pathogenic Avian Influenza Subtype HSNI.

OMB Control Number: 0579-0245.

Summary of Collection: Title 7 U.S.C. 8301 the Animal Protection Act authorizes the Secretary of Agriculture to take such measures to prevent the introduction or dissemination of any contagious or communicable disease of animal or live poultry from a foreign country into the United States or from one State to another. Disease prevention is the most effective method for maintaining a healthy animal population and enhancing the Animal and Plant Health Inspection Service (APHIS) ability to compete in the world market of animal and animal product trade. Highly pathogenic avian influenza is an extremely infectious and fatal form of influenza in chickens and can strike poultry quickly without any warning signs. APHIS will collect information using forms VS 17-129, 17-8, and 16-3.

Need and Use of the Information: APHIS will collect information to ensure that U.S. origin pet birds, performing or theatrical birds and poultry undergo appropriate examinations before entering the United States. Without the information, it would be impossible for APHIS to establish an effective line of defense against an introduction of highly pathogenic avian influenza.

Description of Respondents: Individuals or households; Business or other for-profit; Not-for-profit institutions.

Number of Respondents: 5,180.

Frequency of Responses: Reporting: On occasion.

Total Burden Hours: 11,760.

Ruth Brown,
Departmental Information Collection Clearance Officer.

[FR Doc. E7-18917 Filed 9-25-07; 8:45 am]

BILLING CODE 3410-34-P